DEPARTMENT OF THE INTERIOR

Bureau of Land Management

[LLMT924000 L14400000.FR0000 17XL1109AF; MO#4500106754; MTM 108489]

Initial Classification and Extension of the Proposed Classification and Segregation for State In Lieu Selection, Montana

AGENCY: Bureau of Land Management, Interior.

ACTION: Notice of lands suitable for conveyance.

SUMMARY: The Montana Department of Natural Resources and Conservation (State) has filed a petition for classification and application to obtain public lands and the mineral estate in lieu of lands to which the State was entitled, but did not receive, under its Statehood Act. This classification, made under Section 7 of the Taylor Grazing Act of June 8, 1934, partially satisfies the obligation to the State. This Notice also extends the segregation initiated by that application, and the proposed classification published in the Federal Register on October 17, 2016, for the remaining lands included in the State's application to allow continued review to determine suitability.

DATES: Written comments requesting administrative review regarding the classification of lands and minerals may be submitted to the Secretary of the Interior (Secretary) on or before December 15, 2017. Additional administrative review requirements are found in the SUPPLEMENTARY INFORMATION section.

ADDRESSES: Send requests for administrative review to the Secretary of the Interior, 1849 C Street NW., Room 2134LM, WO-350 (Wilhight), Washington, DC 20240.

FOR FURTHER INFORMATION CONTACT: Renee Johnson, Branch of Lands, Realty, and Renewable Energy; telephone (406) 896-5028; email rrjohnso@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Sections 2275 and 2276 of the Revised Statutes, as amended (43 U.S.C. 851 and 852), provide authority for the State of Montana to receive title to public land in lieu of lands to which it was entitled under the Enabling Act of 1889 (25 Stat. 676) but did not receive because the lands were either encumbered or no longer held in Federal ownership.

Section 7 of the Taylor Grazing Act of June 8, 1934 (43 U.S.C. 315 et seq.) requires that such public lands and/or minerals identified for proposed transfers out of Federal ownership under this authority must first be classified. The Bureau of Land Management (BLM) is classifying these lands and minerals pursuant to 43 CFR 2400 and Section 7 of the Taylor Grazing Act of June 8, 1934. The BLM has completed a review and environmental analysis on a portion of the lands included in the proposed classification dated October 17, 2016 (80 FR 71529), and is hereby classifying 2,126.11 acres as suitable for conveyance. The environmental analysis resulted in a Finding of No Significant Impact. The BLM is continuing review of the remaining 13,929.63 acres of the total 16,055.74 acres included in the proposed classification.

For a period of 30 days from the date of publication of this Notice, this classification is subject to the exercise of administrative review and modification by the Secretary as provided for under 43 CFR 2461.3. All persons who wish to request that the Secretary conduct an administrative review of the finding that these lands are suitable for conveyance to the State may present their views to the address given in the ADDRESSES section above. Electronic mail, facsimile, or telephone requests will not be accepted. Requests for administrative review will be evaluated by the Secretary, or his delegate, who will issue a notice of determination to proceed with, modify, or cancel the initial classification. In the absence of any requests for administrative review, this initial classification will become final and effective on December 15, 2017.

Before including your address, phone number, email address, or other personal identifying information in your comment, you should be aware that your entire comment—including your personal identifying information—may be made publicly available at any time. While you can ask us in your request to withhold your personal identifying information from public review, we cannot guarantee that we will be able to do so.

The lands/minerals affected by this classification are in Chouteau, Hill, and Custer Counties, Montana, and are described as follows:

Principal Meridian, Montana

T. 29 N., R. 11 E.,

Sec. 21, N½NE¼ and N½NW¼;

Sec. 22, NW¼NW¼.

T. 29 N., R. 12 E.,

Sec. 9, W½ and SE¼;

Sec. 21, N½NE¼ and N½NW¼;

Sec. 22;

Sec. 28, W½;

Sec. 29, E½NE¼ and E½SE¼.

T. 30 N., R. 12 E.,

Sec. 35, SE¼.

T. 7 N., R. 47 E.,

tracts DD and FF.

The areas described aggregate 2,126.11 acres.

The BLM has examined the lands described above for evidence of valid existing rights and any constraints that would prevent conveyance. No persons other than holders of leases, permits, and rights-of-way, asserted a claim to, or interest in, the lands proposed for classification.

When the selection is certified to the State, the document transferring title will contain the following reservations to the United States:

1. A right-of-way thereon for ditches and canals constructed by the authority of the United States, pursuant to the Act of August 30, 1890, 26 Stat. 391 (43 U.S.C. 945).

2. A right-of-way for a storm water drainage system and all appurtenances thereto, through, over, and upon the land described as tracts DD and FF, T.7N, R.47E, Principal Meridian, Montana, including the right of the United States and its agents, assigns, or employees, to enter upon, maintain, operate, repair, or improve the same, so long as needed or used for or by the United States.

The title will also be taken subject to:

1. Those rights for a power line granted to MDU Resources Group, Inc., its successors or assigns, by right-of-way No. MTM 91401, pursuant to the Act of October 21, 1976 (43 U.S.C. 1761), located in tracts DD and FF, T. 7 N., R. 47 E., Principal Meridian, Montana.

2. Those rights for a power line granted to Northwestern Corporation, its successors or assigns, by right-of-way No. MTM 108329, pursuant to the Act of October 21, 1976 (43 U.S.C. 1761), located in sections 21, 22, 28, and 29, T. 29 N., R. 12. E., Principal Meridian, Montana.

3. Those rights for a water pipeline granted to Loma Sewer and Water, its successors or assigns, by right-of-way No. MTM 93467, pursuant to the Act of October 21, 1976 (43 U.S.C. 1761), located in the E½NE¼ and E½SE¼, section 29, T. 29 N., R. 12. E., Principal Meridian, Montana.

Right-of-way holders will be afforded the opportunity to modify their existing authorization per 43 CFR 2807.15 prior to official transfer of the lands to the State.

The subject lands contain grazing leases authorized under Section 15 of the Taylor Grazing Act. The holders of the BLM grazing use authorizations received the required 2-year notices as outlined in 43 CFR 4110.4-2(b). The lands will not be conveyed until expiration of the 2-year period or receipt of a waiver from the current holder. State of Montana procedures provide that upon Land Board Approval, the State will offer 10-year grazing leases to the current holders of BLM permits/leases on any transferred lands.

The lands contain no oil and gas, geothermal, or other leases issued under the authority of the Mineral Leasing Act of 1920 (30 U.S.C. 181 et seq.). No mining claims are recorded with the BLM on these lands, nor was any evidence of mining activity found on the ground. Title will not be subject to the agricultural leases issued under the authority of the Federal Land Policy and Management Act of 1976 (43 U.S.C. 1732) that expire on December 31, 2017.

This Notice also extends the proposed classification and segregation of the land contained in the State's application, but not yet found suitable for conveyance, for a period of 2 additional years through December 1, 2019. These lands remain segregated from all forms of disposal under the public land laws, including the mining laws, except for the form of land disposal specified in the notice of proposed classification. This publication does not alter the applicability of the public land laws governing the use of the lands under lease, license, or permits or governing the disposal of their mineral and vegetative resources, other than under the mining laws.

The segregative effect of this extension will terminate in one of the following ways:

(1) Classification of the lands within 2 years of publication of this notice of extension of the proposed classification in the Federal Register;

(2) Publication of a notice of termination of the proposed classification in the Federal Register;

(3) An Act of Congress; or

(4) Expiration of the additional 2-year period extending the proposed classification afforded by publication of this Notice.

Authority: 43 CFR parts 2400 and 2621.

Jon K. Raby,
Acting State Director, Montana/Dakotas.

[FR Doc. 2017-24665 Filed 11-14-17; 8:45 am]

BILLING CODE 4310-DN-P